DEPARTMENT OF DEFENSE

Department of the Air Force

US Air Force Exclusive Patent License

AGENCY: Air Force Research Laboratory Information Directorate, Rome, New York, Department of the Air Force, DOD.

ACTION: Notice of Intent to Issue an Exclusive Patent License.

SUMMARY: Pursuant to the provisions of part 404 of Title 37, Code of Federal Regulations, which implements Public Law 96-517, as amended, the Department of the Air Force announces its intention to grant Trident Systems, Inc., a corporation of Virginia, having a place of business at 10201 Fairfax Blvd., Suite 300, Fairfax, VA, an exclusive license in any right, title and interest the United States Air Force has in: U.S. Patent No. 8,051,475, filed on March 27, 2007 and issued on November 1, 2011, entitled “Collaboration Gateway.”

FOR FURTHER INFORMATION CONTACT: An exclusive license for this patent will be granted unless a written objection is received within fifteen (15) days from the date of publication of this Notice. Written objections should be sent to: Air Force Research Laboratory, Office of the Staff Judge Advocate, AFRL/RIJ, 26 Electronic Parkway, Rome, New York 13441-4514. Telephone: (315) 330-2087; Facsimile (315) 330-7583.

Henry Williams Jr,
Acting Air Force Federal Register Liaison Officer.

[FR Doc. 2012-22186 Filed 9-7-12; 8:45 am]

BILLING CODE 5001-10-P